DEPARTMENT OF LABOR

Employment and Training Administration

[TA-W-51,611, TA-W-51,611A, et al.]

National Steel Corporation (NSC), United States Steel Corporation, Corporate Headquarters, Mishakawa, IN, Granite City Division, Granite City, IL, Great Lakes Operations, Ecorse, MI, Medwest Operations, Portage, IN, Procoil Corporation, United States Steel Corporation, Canton, MI, National Steel Corporation, United States Steel Corporation, Technical Research Center, Trenton, MI, National Steel Pellet Company, United States Steel Corporation, Keewatin, MI, Delray Connecting Railroad, United States Steel Corporation, Detroit, MI; Amended Certification Regarding Eligibility To Apply for Worker Adjustment Assistance

In accordance with section 223 of the Trade Act of 1974 (19 U.S.C. 2273) the Department of Labor issued a Certification of Eligibility to Apply for Worker Adjustment Assistance on July 9, 2003, applicable to workers of National Steel Corporation, Corporate Headquarters, Mishakawa, Indiana, Granite City Division, Granite City, Illinois, Great Lakes Operations, Ecorse, Michigan, Midwest Operations, Portage, Indiana, ProCoil Corporation, Canton, Michigan, Technical Research Center, Trenton, Michigan, National Steel Pellet Company, Keewatin, Minnesota and Delray Connecting Railroad, Detroit, Michigan. The notice was published in the Federal Register on July 22, 2003 (68 FR 43371).

At the request of the State agency, the Department reviewed the certification for workers of the subject firm. The workers are engaged in the production of flat rolled steel.

New information shows that United States Steel purchased the assets of National Steel Corporation on May 20, 2003 and some of the workers separated from employment at the subject firm had their wages reported under a separate unemployment insurance (UI) tax account for United States Steel Corporation.

Accordingly, the Department is amending the certification to properly reflect this matter.

The intent of the Department's certification is to include all workers of National Steel Corporation who were adversely affected by increased imports.

The amended notice applicable to TA-W-51,611 is hereby issued as follows:

All workers of National Steel Corporation (NSC), United States Steel Corporation, Corporate Headquarters, Mishakawa, Indiana (TA-W-51,611); National Steel Corporation, United States Steel Corporation, Granite City Division, Granite City, Indiana (TA-W-51,611A); National Steel Corporation, United States Steel Corporation, Great Lakes Operations, Ecorse, Michigan (TA-W-51,611B); National Steel Corporation, United States Steel Corporation, Midwest Operations, Portage, Indiana (TA-W-51,611C); ProCoil Corporation, United States Steel Corporation, Canton, Michigan (TA-W-51,611D); National Steel Corporation, Technical Research Center, Trenton, Michigan (TA-W-51,611E); National Steel Pellet Company, United States Steel Corporation, Keewatin, Minnesota (TA-W-51,611F); and, Delray Connecting Railroad, United States Steel Corporation, Detroit, Michigan (TA-W-51,611I) who became totally or partially separated from employment on or after April 8, 2002, through July 9, 2005, are eligible to apply for adjustment assistance under section 223 of the Trade Act of 1974.

Signed at Washington, DC, this 5th day of August, 2003.
Elliott S. Kushner,
Certifying Officer, Division of Trade Adjustment Assistance.

[FR Doc. 03-21277 Filed 8-19-03; 8:45 am]

BILLING CODE 4510-30-P